DEPARTMENT OF THE TREASURY

United States Mint

Pricing for 2010 Lincoln One-Cent Coin Two-Roll Set

AGENCY: United States Mint, Department of the Treasury.

ACTION: Notice.

SUMMARY: The United States Mint is announcing the price of the 2010 Lincoln One-Cent Coin Two-Roll Set.

The 2010 Lincoln One-Cent Coin Two-Roll Set will be priced at $8.95. This set will contain rolls of coins struck at both the United States Mint facilities at Philadelphia and at Denver, and will be released on April 8, 2010.

FOR FURTHER INFORMATION CONTACT: B. B. Craig, Associate Director for Sales and Marketing; United States Mint; 801 9th Street NW., Washington, DC 20220; or call 202-354-7500.

Authority: 31 U.S.C. 5111, 5112 & 9701.

Dated: April 1 2010.
Edmund C. Moy,
Director, United States Mint.

[FR Doc. 2010-7852 Filed 4-6-10; 8:45 am]

BILLING CODE 4810-37-P